DEPARTMENT OF COMMERCE

International Trade Administration

[C-570-046]

Countervailing Duty Investigation of 1-Hydroxyethylidene-1, 1-Diphosphonic Acid From the People's Republic of China: Postponement of Preliminary Determination

AGENCY: Enforcement and Compliance International Trade Administration, Department of Commerce.

FOR FURTHER INFORMATION CONTACT: Javier Barrientos, AD/CVD Operations, Office V, Enforcement and Compliance, International Trade Administration, U.S. Department of Commerce, 14th Street and Constitution Avenue NW., Washington, DC 20230; Telephone: 202-482-2243.

SUPPLEMENTARY INFORMATION:

Background

On April 20, 2016, the Department of Commerce (the “Department”) initiated the countervailing duty investigation of 1-Hydroxyethylidene-1, 1-Diphosphonic Acid (“HEDP”) from the People's Republic of China (“PRC”).¹ Currently, the preliminary determination is due no later than June 24, 2016.

¹ See 1-Hydroxyethylidene-1, 1-Diphosphonic Acid from People's Republic of China: Initiation of Countervailing Duty Investigation, 81 FR 25383 (April 28, 2016) (“Initiation”). Although the Initiation inadvertently stated the effective date of initiation was February 20, 2016, the correct effective date is April 20, 2016. Id.

Postponement of Due Date for the Preliminary Determination

Section 703(b)(1) of the Tariff Act of 1930, as amended (the “Act”), requires the Department to issue the preliminary determination in a countervailing duty investigation within 65 days after the date on which the Department initiated the investigation. However, section 703(c)(1) of the Act permits the Department to postpone making the preliminary determination until no later than 130 days after the date on which it initiated the investigation if, among other reasons, the petitioner makes a timely request for a postponement, or the Department concludes that the parties concerned are cooperating and determines that the investigation is extraordinarily complicated.

Currently, while the Department has not yet chosen mandatory respondents, we determine that, thus far, the parties concerned are cooperating because each has made an entry of appearance in this investigation.² Also, the Department must analyze four complicated alleged subsidy programs ³ for each respondent, including companies that are cross-owned with each respondent, and likely issue multiple supplemental questionnaires. For all these reasons, the Department finds this investigation to be extraordinarily complicated within the meaning of section 703(c)(1)(B) of the Act, and is hereby fully postponing the preliminary countervailing duty determination by 130 days.⁴ Therefore, pursuant to the discretion afforded to the Department under section 703(c)(1)(B) of the Act, we are postponing the due date for the preliminary determination to no later than August 29, 2016.⁵

² See, e.g., Entry of Appearance Letters by: Compass Chemical International LLC dated April 5, 2016; Nantong Uniphos Chemicals Co., Ltd, dated May 4, 2016; Qingshuiyuan Technology Co., Ltd., dated May 5, 2016; Shandong Taihe Chemicals Co., Ltd., dated May 10, 2016; Changzhou Yao's Tongde Chemical Co., Ltd., dated May 10, 2016; and Jianghai Environmental Protection Co., Ltd., May 23, 2016.

³ The number of programs may be found in the “Countervailing Duty Investigation Initiation Checklist: 1-Hydroxyethylidene-1, 1-Diphosphonic Acid from the People's Republic of China from the People's Republic of China,” at 5-8.

⁴ We note that section 351.205(f)(1) of the Department's regulations stipulates that parties to this proceeding will be notified of an extension 20 days in advance of the preliminary determination. See 19 CFR 351.205(f)(1). We note that 20 days before the preliminary determination is June 4, 2016. However, because this date falls on a Saturday, the due date is the next business day, June 6, 2016. See Notice of Clarification: Application of “Next Business Day” Rule for Administrative Determination Deadlines Pursuant to the Tariff Act of 1930, As Amended, 70 FR 24533 (May 10, 2005) (“Next Business Day Rule”).

⁵ We note that 130 days after initiation is August 28, 2016. However, because this date falls on a Sunday, the due date is the next business day, August 29, 2016. See Next Business Day Rule.

This notice is issued and published pursuant to section 703(c)(2) of the Act and 19 CFR 351.205(f)(1).

Dated: June 6, 2016.
Paul Piquado,
Assistant Secretary for Enforcement and Compliance.

[FR Doc. 2016-13954 Filed 6-10-16; 8:45 am]

BILLING CODE 3510-DS-P